CONSUMER PRODUCT SAFETY COMMISSION

[Docket No. CPSC 2009-0066]

Submission for OMB Review; Comment Request—Recordkeeping Requirements Under the Safety Standard for Infant Walkers

AGENCY: Consumer Product Safety Commission.

ACTION: Notice.

SUMMARY: In the Federal Register of April 19, 2013 (76 FR 23544), the Consumer Product Safety Commission (CPSC or Commission) published a notice in accordance with provisions of the Paperwork Reduction Act of 1995 (44 U.S.C. Chapter 35), to announce the CPSC's intention to seek extension of an approval of information collection for the recordkeeping requirements in the safety standard for infant walkers, 16 CFR part 1216.

No comments were received in response to that notice. Therefore, by publication of this notice, the Commission announces that it has submitted to the Office of Management and Budget (OMB) a request for extension of approval of those collections of information, without change.

DATES: Fax comments to OMB not later than August 5, 2013.

ADDRESSES: OMB recommends that written comments be faxed to the Office of Information and Regulatory Affairs, OMB, Attn: CPSC Desk Officer, FAX: 202-395-6974, or emailed to oira_submission@omb.eop.gov. All comments should be identified by Docket No. CPSC-2009-0066. In addition, written comments also should be submitted at: http://www.regulations.gov, under Docket No. CPSC-2009-0066, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov.

FOR FURTHER INFORMATION CONTACT: Robert H. Squibb, Consumer Product Safety Commission, 4330 East West Highway, Bethesda, MD 20814; (301) 504-7815, or by email to: rsquibb@cpsc.gov.

SUPPLEMENTARY INFORMATION: Request for Renewal of Approval of Collections of Information. Section 9.1 of ASTM F977-07 (which has been incorporated by reference in the safety standard for infant walkers, 16 CFR part 1216) requires infant walkers to be provided with easy-to-read instructions regarding assembly, maintenance, cleaning, and use.

There are 16 known firms supplying infant walkers to the U.S. market. All 16 firms are assumed to use labels already on both their products and their packaging, but they might need to make some modifications to their existing labels as a result of the mandatory rule. The estimated time required to make these modifications is about one hour per model. Each of these firms supplies an average of four different models of infant walkers; therefore, the estimated burden hours associated with labels is 1 hour × 16 firms × 4 models per firm = 64 annual hours.

Section 9.1 of ASTM F977-07 requires instructions to be supplied with the product. Supplying instructions with infant walkers is a usual and customary practice, as these products generally require some assembly, often necessitating instruction. There are no burden hours associated with the instruction requirement in section 9.1 because any burden associated with supplying instructions with infant walkers would be “usual and customary” and not within the definition of “burden” under OMB's regulations.

CPSC staff estimates that hourly compensation for the time required to create and update labels is $27.12 (U.S. Bureau of Labor Statistics, “Employer Costs for Employee Compensation,” December 2012, Table 9, total compensation for all sales and office workers in goods-producing private industries: http://www.bls.gov/ncs/). Therefore, the estimated annual cost associated with the proposed requirements is $1,736 ($27.12 per hour × 64 hours = $1,736).

Dated: July 1, 2013.
Todd A. Stevenson,
Secretary, Consumer Product Safety Commission.

[FR Doc. 2013-16120 Filed 7-3-13; 8:45 am]

BILLING CODE 6355-01-P